DEPARTMENT OF JUSTICE

Notice of Lodging of Consent Decree Under the Comprehensive Environmental Response, Compensation and Liability Act

Notice is hereby given that on May 3, 2006, a proposed Consent Decree in United States v. Portland Terminal Railroad Company, Case No. 03-1763 was lodged with the United States District Court for the District of Oregon.

In this action the United States sought recovery of response costs incurred and to be incurred in connection with the clean up of the United States Postal Service's Processing and Distribution Center in Portland, Oregon. The Postal Service facility is the former location of a rail yard owned and operated by the Defendant, Portland Terminal Railroad Company. The Consent Decree provides that the Railroad will pay seventy percent of the United States' past costs, a total of $550,000. In addition, the Railroad agrees to pay 87.5% of the United States' future costs, provided that the selected remedy for the site is based on a particular land use.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Portland Terminal Railroad Company, D.J. Ref. 90-11-3-07801.

The Consent Decree may be examined at the Office of the United States Attorney, District of Oregon, 1000 SW. Third Ave., Suite 600, Portland, OR 97204-2902. During the comment period, the Consent Decree may be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $13.50 (25 cents per page reproduction cost) payable to the U.S. Treasury.

Robert E. Maher, Jr.,
Assistant Chief, Environmental Enforcement Section, Environment and Natural Resources Division.

[FR Doc. 06-5018 Filed 5-31-06; 8:45am]

BILLING CODE 4410-15-M